DEPARTMENT OF JUSTICE

Notice of Lodging of Consent Decree Pursuant to the Comprehensive Environmental Response, Compensation and Liability Act

In accordance with Department of Justice policy codified at 28 CFR 50.7 and Section 122 of the Comprehensive Environmental Response, Compensation and Liability Act of 1980, as amended (“CERCLA”), 42 U.S.C. 9622, 42 U.S.C. 9622, notice is hereby given that on September 7, 2001, a proposed consent decree in United States v. Dayton Power & Light Co., et al., No. C-3-98-451, was lodged with the United States District Court for the Southern District of Ohio. The proposed consent decree would settle the United States' claims against five Settling Defendants under CERCLA 107, 42 U.S.C. 9607, for the recovery of response costs incurred or to be incurred by the United States in connection with the Sanitary Landfill (IWD) Superfund Site (“Site”) in Moraine, Ohio. The proposed consent decree would also resolve the United States' claim under CERCLA Section 104(e), 42 U.S.C. 9604(e), for civil penalties against defendant Lee E. Snyder. Each of the Settling Defendants is an owner and/or operator of the Site, which was operated as a licensed landfill from 1971 to 1980. The U.S. Environmental Protection Agency (“EPA”) incurred costs of approximately $1.2 million in responding to the release or threatened release of hazardous substances at the Site.

Under the terms of the consent decree, the Settling Defendants agree to pay a total of $110,000 ($45,000 for the claim under CERCLA Section 104(e), and $65,000 for the claims under CERCLA Section 107) with thirty (30) days of entry of the consent decree. In consideration for these payments, the Settling Defendants will receive a covenant not to sue for Site response costs and for the CERCLA Section 104(e) violations alleged in the United States' complaint. The Settling Defendants will also receive contribution protection for Site response costs.

For a period of thirty (30) days from the date of this publication, the Department of Justice will receive comments related to the proposed consent decree. Comments should be addressed to the Acting Assistant Attorney General, Environment and Natural Resources Division, U.S. Department of Justice, 950 Pennsylvania Avenue, NW., Washington, DC 20530, and should refer to United States v. Dayton Power & Light Co., et al., Civil Action No. C-3-98-451; D.J. Ref. No. 90-11-2-1113A.

The consent decree may be examined at the Office of the United States Attorney, 602 Federal Building, 200 West 2nd Street, Dayton, Ohio 45402, and at the U.S. Environmental Protection Agency, Region V, 77 West Jackson Boulevard, Chicago, Illinois 60604. A copy of the consent decree may also be obtained by mail from the Consent Decree Library, P.O. Box 7611, U.S. Department of Justice, Washington, DC 20044-7611. In requesting a copy, please enclose a check in the amount of $5.50 (22 pages at 25 cents per page reproduction cost).

William Brighton,
Assistant Section Chief, Environmental Enforcement Section, Environment and Natural Resources Division.

[FR Doc. 01-23951 Filed 9-24-01; 8:45 am]

BILLING CODE 4410-15-M